DEPARTMENT OF JUSTICE

Notice of Lodging of Consent Decree Under the Clean Air Act

Under 28 CFR 50.7, notice is hereby given that on February 12, 2004, a proposed consent decree in United States v. J.R. Simplot Company, Case No. CV-S-04-0162-KJD-PAL, was lodged with the United States District Court for the District of Nevada.

In this action, the United States sought injunctive relief and civil penalties under section 113(b) of the Clean Air Act (“CAA”) against Simplot for violations of permitting and new source review requirements of the CAA and the federally enforceable State Implementation Plan for Nevada at Simplot's silica sand processing facility in Overton, Nevada. The consent decree requires Simplot to: (1) Install air pollution control equipment and modify processes at its facility, (2) modify its permits, and (3) pay a civil penalty of $525,000.

The Department of Justice will receive for a period of thirty (30) days from the date of this publication comments relating to the consent decree. Comments should be addressed to the Assistant Attorney General, Environment and Natural Resources Division, P.O. Box 7611, U.S. Department of Justice, Washington, DC 20044-7611 with a copy to Robert Mullaney, U.S. Department of Justice, 301 Howard Street, Suite 1050, San Francisco, CA 94105, and should refer to United States v. J. R. Simplot Company, D.J. Ref. #90-5-2-1-06987.

The consent decree may be examined at the Office of the United States Attorney, 333 Las Vegas Blvd. South, Suite 5000, Las Vegas, Nevada, and at U.S. EPA Region 9, Office of Regional Counsel, 75 Hawthorne Street, San Francisco, California. During the public comment period, the consent decree may also be examined on the following Department of Justice Web site: http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation under (202) 514-1547. In requesting a copy from the Consent Decree Library, please enclose a check in the amount of $24.25 (25 cents per page reproduction cost) payable to the U.S. Treasury.

Ellen M. Mahan,
Assistant Chief, Environmental Enforcement Section, Environment and Natural Resources Division.

[FR Doc. 04-4213 Filed 2-25-04; 8:45 am]

BILLING CODE 4410-15-M